DEPARTMENT OF TRANSPORTATION

Federal Aviation Administration

Notice of Intent To Rule on Request To Release Airport Land at Banning Municipal Airport, Banning, CA

AGENCY: Federal Aviation Administration, Department of Transportation.

ACTION: Notice of request to release airport land.

SUMMARY: The Federal Aviation Administration (FAA) proposes to rule and invites public comment on the release of the City of Banning from the conditions contained in applicable grant agreements with the United States for approximately 20 acres of undeveloped airport land obligated for airport purposes at Banning Municipal Airport, Banning, California, and which is not needed for airport purposes. The parcel will be sold at its fair market value and redeveloped for commercial purposes, which are compatible with the airport. The City of Banning County will use the sale proceeds for eligible airport improvements, which will provide a benefit to the airport and civil aviation.

DATES: Comments must be received on or before October 16, 2006.

ADDRESSES: Comments on this application may be mailed or delivered in triplicate to the FAA at the following address: Federal Aviation Administration, Airports Division, Federal Register Comment, 15000 Aviation Blvd., Lawndale, CA 90261. In addition, one copy of any comments submitted to the FAA must be mailed to Mr. Owen Carder, Airport Manager, City of Banning, P.O. Box 998, Banning, CA 92220-0998.

FOR FURTHER INFORMATION CONTACT: Tony Garcia, Airports Compliance Specialist, Airports Division, Federal Aviation Administration, 15000 Aviation Blvd., Lawndale, CA 90261, telephone (310) 725-3634, and fax (310) 725-6849. For airport-specific information regarding the release, contact Mr. Owen Carder, Airport Manager, Banning Municipal Airport at the address above or telephone (951) 922-3291.

SUPPLEMENTARY INFORMATION: In accordance with the Wendell H. Ford Aviation Investment and Reform Act for the 21st Century (AIR 21), Public Law 10-181 (Apr. 5, 2000; 114 Stat. 61), this notice must be published in the Federal Register 30 days before the Secretary of Transportation may waive any condition imposed on a federally obligated airport by the assurances in grant agreements.

Brief Overview of the Request

The City of Banning requested a release from the conditions and restrictions in applicable grant agreements with the United States for approximately 20 acres of undeveloped airport land obligated for airport purposes at Banning Municipal Airport, Banning, California. The 20-acre parcel is not being used for airport purposes and is not needed for future airport development. The land is located on the south side of the airport and is separated from the developed area on the west side of the airport. The parcel was acquired with an Airport Improvement Grant in September 1983. The property has remained vacant and undeveloped since its acquisition. It has been determined that the property will not be used for airport development and is, therefore, not needed for airport purposes. In accordance with Assurance 31, Disposal of Land, land that was acquired with a grant for airport development will be disposed of at fair market value when the land is no longer needed for such a purpose. The sale price of the parcel will be based on an appraisal of its fair market value. The sales proceeds will be invested in eligible airport development projects. Following the sale, the property's redevelopment for non-aeronautical purposes will comply with local zoning and compatible land-use requirements. Use of the proceeds from the release will be used for airport improvements that will provide tangible benefits to the airport and civil aviation.

Issued in Hawthorne, California, on August 9, 2006.
George Aiken,
Manager, Safety and Standards Branch, Airports Division, Western-Pacific Region.

[FR Doc. 06-7631 Filed 9-13-06; 8:45 am]

BILLING CODE 4910-13-M